DEPARTMENT OF COMMERCE

National Oceanic and Atmospheric Administration

15 CFR Part 922

[Docket No. 010712175-1175-01]

RIN 0648-XA71

Fair Market Value for a Submarine Cable Permit in National Marine Sanctuaries

AGENCY: National Marine Sanctuary Program (NMSP), National Ocean Service (NOS), National Oceanic and Atmospheric Administration (NOAA), Department of Commerce (DOC).

ACTION: Extension of public comment period.

SUMMARY: Pursuant to public request, NOAA is extending by 15 days the comment period on the draft report “Fair Market Value for a Submarine Cable Permit in National Marine Sanctuaries,” published on August 17, 2001, 66 FR 43135.

DATES: Comments must be now received by October 16, 2001.

ADDRESSES: Address all comments regarding this notice to Helen Golde, Chief, Conservation Policy and Planning Branch, Office of National Marine Sanctuaries, 1305 East-West Highway, 11th Floor, Silver Spring, MD 20910, Attention: Fair Market Value Analysis. Comments may also be submitted by email to: submarine.cables@noaa.gov, subject line “Fair Market Value Analysis.” The report is available for download at http://www.sanctuaries.nos.noaa.gov or by requesting an electronic or hard copy. Requests can be made by sending an email to submarine.cables@noaa.gov (subject line “Request for Fair Market Value Analysis”) or by calling Matt Brookhart at the number below.

FOR FURTHER INFORMATION CONTACT: Matt Brookhart, (301) 713-3125, x140.

SUPPLEMENTARY INFORMATION: On August 17, 2001, NOAA published a Notice of Availability (66 Federal Register 43135) and reopening of opportunity to comment on the draft report “Fair Market Value for a Submarine Cable Permit in National Marine Sanctuaries.” In response to several requests from the public, NOAA is extending the existing 45 day public comment period by 15 days. Therefore, comments on the analysis must now be received by October 16, 2001.

Dated: September 21, 2001.
Jamison S. Hawkins,
Deputy Assistant Administrator.

[FR Doc. 01-24345 Filed 9-27-01; 8:45 am]

BILLING CODE 3510-08-M